DEPARTMENT OF LABOR

Employment and Training Administration

[TA-W-36,801 and TA-W-36801A and NAFTA-3546 and NAFTA-3546A]

Case Corp., Racine, Wisconsin and East Moline, IL; Dismissal of Application for Reconsideration

Pursuant to 29 CFR 90.18(C) an application for administrative reconsideration was filed with the Director of the Division of Trade Adjustment Assistance for workers at the Case Corporation, Racine, Wisconsin and East Moline, Illinois. The application contained no new substantial information which would bear importantly on the Department's determination. Therefore, dismissal of the application was issued.

TA-W-36,801 and TA-W-36,801A and NAFTA-3418 and NAFTA-3418A, Case Corporation, Racine, Wisconsin and East Moline, Illinois (March 15, 2000).

Signed at Washington, DC, this 21st day of March, 2000.
Grant D. Beale,
Program Manager, Division of Trade Adjustment Assistance.

[FR Doc. 00-7479 Filed 3-24-00; 8:45 am]

BILLING CODE 4510-30-M